SECURITIES AND EXCHANGE COMMISSION

[Release No. 34-69823; File No. SR-MIAX-2013-29]

Self-Regulatory Organizations; Miami International Securities Exchange LLC; Notice of Filing and Immediate Effectiveness of Proposed Rule Change To Make Technical Amendments To the MIAX Options Fee Schedule

June 21, 2013.

Pursuant to Section 19(b)(1) of the Securities Exchange Act of 1934 (“Act”),¹ and Rule 19b-4 thereunder,² notice is hereby given that on June 12, 2013, Miami International Securities Exchange LLC (“MIAX” or “Exchange”) filed with the Securities and Exchange Commission (“Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange is filing a proposal to make technical amendments to the MIAX Options Fee Schedule (the “Fee Schedule”).

The text of the proposed rule change is available on the Exchange's Web site at http://www.miaxoptions.com/filter/wotitle/rule_filing, at MIAX's principal office, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and the Statutory Basis for, the Proposed Rule Change

1. Purpose

The Exchange proposes to amend its Fee Schedule to make several technical changes to delete obsolete or unnecessary date references, delete obsolete fees, and to correctly rename a market data product.

Technical Changes

First, the Exchange proposes to delete the language “Effective April 17, 2013” from the heading in Section 2(b) of the Fee Schedule. The Exchange believes that including this date in the Fee Schedule in this location is unnecessary going forward.

Second, the Exchange proposes to delete the portion of the Web CRD Fees in Section 2(c) that is no longer in effect as of January 1, 2013. The Exchange also proposes to make the corresponding change to delete the language that provides that “[t]hese fees will be in effect on and after January 2, 2013.” The Exchange believes these deletions of obsolete language in the Fee Schedule will reduce the potential of confusion over which fees apply.

Third, the Exchange proposes to delete footnote 9 regarding the operative date for Membership Application Fees. Since the Membership Application Fees are now effective and operative, the Exchange believes that including this language in the Fee Schedule is unnecessary going forward.

Fourth, the Exchange proposes to make a technical change in Section 6 of the Fee Schedule to correct the name of the MIAX market data product, MIAX Top of Market (“ToM”), which is incorrectly identified as Top of MIAX in the Fee Schedule.

Finally, to avoid confusion, the Exchange proposes to re-number the footnotes in the Fee Schedule to reflect the deletion of footnotes 5, 6, and 9.

2. Statutory Basis

The Exchange believes that its proposal to amend its fee schedule is consistent with Section 6(b) of the Act ³ in general, and furthers the objectives of Section 6(b)(4) of the Act ⁴ in particular, in that it is an equitable allocation of reasonable fees and other charges among Exchange members. The proposal to make several technical changes to the Fee Schedule to delete obsolete or unnecessary dates, delete obsolete fees, and to correctly rename a market data product should reduce possible confusion among members to which fees apply.

³ 15 U.S.C. 78f(b).

⁴ 15 U.S.C. 78f(b)(4).

B. Self-Regulatory Organization's Statement on Burden on Competition

The Exchange does not believe that the proposed rule change will impose any burden on competition not necessary or appropriate in furtherance of the purposes of the Act. The proposed technical changes to the Fee Schedule to delete obsolete or unnecessary dates, delete obsolete fees, and to correctly rename a market data product should reduce possible confusion among members at to which fees apply. Since the Exchange proposes no substantive changes other than the technical changes, the proposal should not impose any burden on competition.

C. Self-Regulatory Organization's Statement on Comments on the Proposed Rule Change Received From Members, Participants, or Others

Written comments were neither solicited nor received.

III. Date of Effectiveness of the Proposed Rule Change and Timing for Commission Action

The foregoing rule change has become effective pursuant to Section 19(b)(3)(A)(ii) of the Act.⁵ At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

⁵ 15 U.S.C. 78s(b)(3)(A)(ii).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File No. SR-MIAX-2013-29 on the subject line.

Paper Comments

• Send paper comments in triplicate to Elizabeth M. Murphy, Secretary, Securities and Exchange Commission, 100 F Street NE., Washington, DC 20549-1090.

All submissions should refer to File No. SR-MIAX-2013-29. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the principal office of the Exchange. All comments received will be posted without change; the Commission does not edit personal identifying information from submissions. You should submit only information that you wish to make available publicly. All submissions should refer to File No. SR-MIAX-2013-29 and should be submitted on or before July 18, 2013.

For the Commission, by the Division of Trading and Markets, pursuant to delegated authority.⁶
⁶ 17 CFR 200.30-3(a)(12).
Jill M. Peterson,
Assistant Secretary.

[FR Doc. 2013-15364 Filed 6-26-13; 8:45 am]

BILLING CODE 8011-01-P